FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012479-001.

Title: HSDG/CMA CGM WCCA Vessel Sharing Agreement.

Parties: Hamburg Sud and CMA CGM S.A.

Filing Party: Wayne Rohde; Cozen O'Connor; 1200 19th Street NW., Washington, DC 20036.

Synopsis: The amendment revises the space allocations of the parties under the agreement.

Agreement No.: 012208-004.

Title: Hoegh/Grimaldi Space Charter Agreement.

Parties: Hoegh Autoliners AS; Grimaldi Deep Sea S.p.A.; and Grimaldi Euromed S.p.A. (acting as a single party).

Filing Party: Wayne R. Rohde, Esq.; Cozen O'Connor; 1200 19th Street NW., Washington, DC 20036.

Synopsis: The amendment adds the trade between the East Coast of the U.S. on the one hand, and Mexico and Canada on the other hand to the geographic scope of the agreement.

By Order of the Federal Maritime Commission.
Dated: November 1, 2017.
JoAnne D. O' Bryant,
Program Analyst.

[FR Doc. 2017-24119 Filed 11-3-17; 8:45 am]

BILLING CODE 6731-AA-P